GENERAL SERVICES ADMINISTRATION

[Notice-MV-2023-01; Docket No. 2023-0002; Sequence No. 36]

Public Availability of General Services Administration Fiscal Year 2021 Service Contract Inventory

AGENCY: Office of Governmentwide Policy; General Services Administration, (GSA).

ACTION: Notice.

SUMMARY: In accordance with The Fiscal Year (FY) 2010 Consolidated Appropriations Act, GSA is publishing this notice to advise the public of the availability of the FY 2021 Service Contract Inventory.

DATES: Applicable: November 21, 2023.

FOR FURTHER INFORMATION CONTACT: Questions regarding the Service Contract Inventory should be directed to Mr. Jeffrey Pitts in the Office of Acquisition Policy at 202-501-0712 or jeffrey.pitts@gsa.gov.

SUPPLEMENTARY INFORMATION: In accordance with section 743 of Division C of the FY 2010 Consolidated Appropriations Act (Pub. L. 111-117), GSA is publishing this notice to advise the public of the availability of the Fiscal Year 2021 Service Contract Inventory. This inventory is available at https://www.acquisition.gov/service-contract-inventory. The inventory provides information on governmentwide service contract actions over $25,000 that were made in FY 2021. The service contract inventory information located on acquisition.gov can be filtered by agency and component to show how contracted resources are distributed throughout any agency. The inventory has been developed in accordance with the guidance issued on December 19, 2011, by the Office of Management and Budget's Office of Federal Procurement Policy (OFPP). OFPP's guidance is available at: https://obamawhitehouse.archives.gov/omb/procurement-service-contract-inventories. GSA has posted its FY 2020 inventory analyses and its planned analyses of FY 2021 actions at the following location: http://www.gsa.gov/gsasci.

Jeffrey A. Koses,
Senior Procurement Executive, Office of Acquisition Policy, Office of Government-wide Policy.

[FR Doc. 2023-25694 Filed 11-20-23; 8:45 am]

BILLING CODE 6820-61-P